DEPARTMENT OF LABOR

Occupational Safety and Health Administration

[Docket No. OSHA-2023-0012]

Occupational Safety and Health State Plans; Federal Advisory Council on Occupational Safety and Health (FACOSH); Notice of Meeting

AGENCY: Occupational Safety and Health Administration (OSHA), Labor.

ACTION: Notice; correction.

SUMMARY: The Occupational Safety and Health Administration (OSHA) published a document in the Federal Register on March 12, 2024 (89 FR 17885) giving notice of a FACOSH meeting on April 18, 2024. The document contained an incorrect link for the public to register to attend the meeting. This notice corrects the error.

DATES: This correction is effective March 19, 2024.

FOR FURTHER INFORMATION CONTACT: Lana Nieves of the Office of Federal Agency Programs, OSHA, U.S. Department of Labor; telephone: (202) 693-2128 at ofap@dol.gov.

SUPPLEMENTARY INFORMATION:

Correction

In the Federal Register of March 12, 2024 (89 FR 17885), correct the paragraph as described below.

1. On page 17885 in the second column, replace the second paragraph titled Participation in the FACOSH meeting: to read: Participation in the FACOSH meeting: Members of the public may register to attend the FACOSH meeting by going to the website: https://usdolee.webex.com/weblink/register/r9d1ba59530df355b6fc569206b6b9eaa.

* * * * *

Authority and Signature

James S. Frederick, Deputy Assistant Secretary of Labor for Occupational Safety and Health, directed the preparation of this notice. The authority for this notice under the authority granted by section 19 of the Occupational Safety and Health Act of 1970 (29 U.S.C. 668), 5 U.S.C. 7902, the Federal Advisory Committee Act (5 U.S.C. 10), Executive Order 12196 and 14109, Secretary of Labor's Order 8-2020 (85 FR 58393, 9/18/2020, 29 CFR 1960 (Basic Program Elements for Federal Employee Occupational Safety and Health Programs and Related Matters), and 41 CFR part 102-3.

Signed at Washington, DC.
James S. Frederick,
Deputy Assistant Secretary of Labor for Occupational Safety and Health.

[FR Doc. 2024-05784 Filed 3-18-24; 8:45 am]

BILLING CODE 4510-26-P